DEPARTMENT OF HEALTH AND HUMAN SERVICES

Centers for Disease Control and Prevention

[30-Day-12-0040]

Agency Forms Undergoing Paperwork Reduction Act Review

The Agency for Toxic Substances and Disease Registry (ATSDR) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

NCEH/ATSDR Exposure Investigations (EIs) [OMB NO: 0923-0040, Expiration Date 11/30/2012]−Revision−The National Center for Environmental Health (NCEH), and the Agency for Toxic Substances and Disease Registry (ATSDR), and the Centers for Disease Control and Prevention (CDC).

Background and Brief Description

EIs are an approach developed by ATSDR that employs targeted biologic (e.g., urine, blood, hair samples) and environmental (e.g., air, water, soil, or food) sampling to determine whether people are or have been exposed to unusual levels of pollutants at specific locations (e.g., where people live, spend leisure time, or anywhere they might come into contact with contaminants under investigation). After a chemical release or suspected release into the environment, ATSDR's EIs are used by public health professionals, environmental risk managers, and other decision makers to determine if current conditions warrant intervention strategies to minimize or eliminate human exposure. EIs are usually requested by officials of a state health agency, county health departments, the Environmental Protection Agency, the general public, and ATSDR staff.

ATSDR has been conducting EIs since 1995 throughout the United States. All of ATSDR's biomedical assessments and some of the environmental investigations involve participants. Participation is completely voluntary. To assist in interpreting the sampling results, a survey questionnaire appropriate to the specific contaminant is administered to participants. ATSDR collects contact information (e.g., name, address, phone number) to provide the participant with their individual results. Name and address information are broken into nine separate questions (data fields) for computer entry. General information, which includes height, weight, age, race, gender, etc., is also collected primarily on biomedical investigations to assist with results interpretation. General information can account for approximately 20 questions per investigation. Some of this information is investigation-specific; not all of these data are collected for every investigation. ATSDR is seeking a revision of our approval for use of a set of 61 general information questions.

ATSDR also collects information on other possible confounding sources of chemical(s) exposure such as medicines taken, foods eaten, hobbies, jobs, etc. In addition, ATSDR asks questions on recreational or occupational activities that could increase a participant's exposure potential. That information represents an individual's exposure history. To cover those broad categories, ATSDR is also seeking a revision to our approval for the use of sets of topical questions. Of these, we use approximately 12-20 questions about the pertinent environmental exposures per investigation. This number can vary depending on the number of chemicals being investigated the route of exposure (e.g., breathing, eating, touching), and number of other sources of the chemical(s) (e.g., products used, jobs).

Typically, the number of participants in an individual EI ranges from 10 to 100. Questionnaires are generally needed in less than half of the EIs (approximately 7 per year).

The subject matter for the complete set of topical questions includes the following:

(1) Media specific which includes: Air (indoor/outdoor); water (water source and plumbing); soil, and food gardening, fish, game, domestic animals (e.g., chickens).

(2) Other sources such as: occupations; hobbies; household chemical uses and house construction characteristics; lifestyle (e.g., smoking); medicines and/or health conditions, and foods. There are no costs to respondents other than their time.

ATSDR is requesting approval to conduct this information collection for three years. The estimated annualized burden hours are 350.

Estimated Annualized Burden Hours
Type of respondent | Form name | Number of respondents | Number of responses per respondent | Average burden per response (in hours)
Exposure Investigation Participants | Chemical Exposure Questions | 700 | 1 | 30/60

Kimberly S. Lane,
Deputy Director, Office of Science Integrity, Office of the Associate Director for Science, Office of the Director, Centers for Disease Control and Prevention.

[FR Doc. 2012-17961 Filed 7-23-12; 8:45 am]

BILLING CODE 4163-18-P